DEPARTMENT OF HEALTH AND HUMAN SERVICES

Office of the Secretary

[Document Identifier: OS-4040-0003] [30-Day Notice]

Agency Information Collection Activities: Proposed Collection; Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Revision.

Title of Information Collection: SF-424 Short Organizational.

Form/OMB No.: OS-4040-0003.

Use: The SF-424 (short) is a simplified, alternative government-wide data set and application cover page for use by Federal grant-making agencies. Agencies may use the SF-424 (short) for grant programs not requiring all the data that is required on the SF-424 core data set and form. This information collection request also includes two additional government-wide forms, the Key Contacts form and the Project Abstract form, each of which can be used in conjunction with the SF-424 to collect supplemental applicant data.

The form will include one change to one field—the Social Security Number (SSN). The SSN field will remain optional. The SSN field will be changed to pre-populate the first five digits with “000-00-” The applicant will only enter the last four digits of the SSN. This change ensures the entire SSN will not be collected or stored. This change will not increase the collection burden to the applicant.

Frequency: Recordkeeping on Occasion.

Affected Public: Individuals or Households.

Annual Number of Respondents: 8276.

Total Annual Responses: 8549.

Average Burden per Response: 25 minutes.

Total Annual Hours: 3562.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received within 30 days of this notice directly to the Desk Officer at the address below:

OMB Desk Officer: John Kraemer, OMB Human Resources and Housing Branch, Attention: (OMB #4040-0003), New Executive Office Building, Room 10235, Washington, DC 20503.

Dated: April 5, 2007.
Mary Oliver-Anderson,
Paperwork Reduction Act Reports Clearance Officer, Office of the Secretary.

[FR Doc. E7-7002 Filed 4-12-07; 8:45 am]

BILLING CODE 4150-17-P